DEPARTMENT OF TRANSPORTATION

Pipeline and Hazardous Materials Safety Administration

International Standards on the Transport of Dangerous Goods; Public Meeting

AGENCY: Pipeline and Hazardous Materials Safety Administration (PHMSA), Department of Transportation.

ACTION: Notice of public meeting.

SUMMARY: This notice is to advise interested persons that PHMSA's Office of Hazardous Materials Safety's Office of International Standards will conduct a public meeting to review and solicit input on the program of work agreed to by the UN Sub-Committee of Experts on the Transport of Dangerous Goods (UN SCOE) for its 2007-2008 biennium and in particular, to solicit input relative to requirements for the transport of dangerous goods in limited quantities, including consumer commodities, which is a major item on this program of work. In addition, the Office of International Standards is developing a five year work plan to address international and domestic harmonization efforts taking into account its role in representing the U.S. in international forums. The public is invited to comment on any areas of a general or specific interest which should be included in this plan.

DATES: February 28, 2007; 9:30 a.m.-12:30 p.m.

ADDRESSES: The meeting will be held at DOT Headquarters, Nassif Building, Room 3200, 400 Seventh Street, SW., Washington, DC 20590.

FOR FURTHER INFORMATION CONTACT: Mr. Duane Pfund, Director, Office of International Standards, Office of Hazardous Materials Safety, Department of Transportation, Washington, DC 20590; (202) 366-0656.

SUPPLEMENTARY INFORMATION: At its December 2006 session, the UN SCOE discussed a program of work for its 2007-2008 biennium. Proposals adopted during the 2007-2008 biennium will form the basis for the 16th Revised Edition of the UN Model Regulations which will come into force in the relevant national and international regulations from January 1, 2011. A major item on the program of work anticipated to be of interest to our stakeholders is requirements for the transport of dangerous goods in limited quantitites, including consumer commodities. These requirements are found in Chapter 3.4 of the UN Model Regulations and have been adopted to various extents within national and international regulations including the International Civil Aviation Organization's Technical Instructions on the Safe Transport of Dangerous Goods by Air, the International Maritime Dangerous Goods Code, and the European Agreement for the Carriage of Dangerous Goods by Road. During the public meeting a presentation outlining the various requirements of these regulations will be provided and input will be solicited as to possible ways to improve the current system taking into account the different views which exist world-wide on this topic. The goal of the limited quantities discussion will be to develop a strategy for the U.S. position on the issue and to solicit comments on approaches for any U.S. proposals on the topic which may be submitted to the UN SCOE this biennium.

In addition, the Office of International Standards is developing a work plan to better focus its efforts and resources over the next five years. The goal is to develop the plan in partnership with affected parties to ensure an enterprise approach which fosters a plan capable of meeting the needs of its stakeholders. The specific elements of the items on the work plan are a work in progress but some general areas include:

—Enhancing safety through improvements to hazard communication, packaging, and classification requirements.

—Enhancing security by ensuring that international and national regulations adequately address new technologies with potential for improving the secure transport of hazardous materials.

—Enhancing safety and security through improved exchange and review of private and public sector data relevant to the transport of hazardous materials.

—Improving cross-sector regulatory consistency by ensuring that international and domestic transport requirements are properly integrated with the Globally Harmonized System for the Classification and Labeling of Chemicals.

—Facilitating global trade by improving mutual recognition of approvals granted by competent authorities, particularly those issued in relation to cylinders and portable tanks.

—Ensuring stakeholder needs are met by improved dialogue and outreach to affected parties to ensure that changes to the regulations are in step with the marketplace realities.

—Improve supply-chain efficiencies through the use of electronic documentation.

The public is invited to attend without prior notification. Due to the heightened security measures participants are encouraged to arrive early to allow time for security checks necessary to obtain access to the building.

Additional Information

For more information on the UNSCOE visit the United Nations Transport Division's Web site at: http://www.unece.org/trans/main/dgdb/dgsubc/c3age.html. This site may also be accessed through PHMSA's Hazardous Materials Safety Homepage at http://hazmat.dot.gov/regs/intl/intstandards.htm. PHMSA's site provides additional information regarding the UNSCOE and related matters such as summaries of decisions taken at previous sessions of the UNSCOE.

Duane Pfund,
Director of International Standards for Hazardous Materials Safety.

[FR Doc. 07-341 Filed 1-25-07; 8:45 am]

BILLING CODE 4910-60-M